DEPARTMENT OF ENERGY

Federal Energy Regulatory Commission

Notice of Effectiveness of Exempt Wholesale Generator or Foreign Utility Company Status

| Docket Nos.
Binghamton BOP LLC | EG15-1-000
Lost Hills Solar, LLC | EG15-2-000
Blackwell Solar, LLC | EG15-3-000
Mesquite Creek Wind, LLC | EG15-4-000
Sky Global Power One, LLC | EG15-5-000
Heritage Stoney Corners Wind Farm I, LLC | EG15-6-000
Western Antelope Blue Sky Ranch A, LLC | EG15-7-000
Duke Energy Miami Fort, LLC | EG15-8-000
Duke Energy Zimmer, LLC | EG15-9-000
Spanish Town Estate Solar 1, LLC | EG15-10-000
Diageo USVI Inc | FC15-1-000

Take notice that during the month of December 2014, the status of the above-captioned entities as Exempt Wholesale Generators or Foreign Utility Companies became effective by operation of the Commission's regulations. 18 CFR 366.7(a).

Dated: January 15, 2015.
Kimberly D. Bose,
Secretary.

[FR Doc. 2015-01043 Filed 1-22-15; 8:45 am]

BILLING CODE 6717-01-P